DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of August 2004.

In order for an affirmative determination to be made and a certification of eligibility to apply for directly-impacted (primary) worker adjustment assistance to be issued, each of the group eligibility requirements of section 222(a) of the Act must be met.

I. Section (a)(2)(A)—all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B)—both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.)(increased imports) and (a)(2)(B)(II.B) (No shift in production to a foreign country) have not been met.

TA-W-55,171; TW Metals, Flat Steel Processing Facility, Cambridge, OH.

TA-W-55,323; Promark International, d/b/a Smith-Victor Corporation, Griffith, IN.

TA-W-55,216; ITW Insulation Systems, Nitro, WV.

TA-W-55,351; D.T. Swiss, Inc., Grand Junction, CO.

TA-W-55,252; Fiberglass Products, Inc., d/b/a FPI Systems, North Haven, CT.

The workers firm does not produce an article as required for certification under section 222 of the Trade Act of 1974.

TA-W-55,265; ATI Research Silicon Valley, Inc., Product Test Group, Santa Clara, CA.

TA-W-55,230 & A; GGS Information Services, Technical Publication Division, York, PA and Book Services Division, York, PA.

TA-W-55,381; Med Data, Inc., Seattle, WA.

TA-W-55,261; Sony Electronics, Inc., AOEM Service Center, Farmington Hills, MI.

TA-W-55,281; Dan River Factory Stores (#6), Commerce, GA.

TA-W-55,295; Teletech Customer Care Management (Colorado), Inc., a div. of Teletech Holdings, Inc., North Hollywood, Los Angeles, CA.

The investigation revealed that criterion (a)(2)(A)(I.A) and (a)(2)(B)(II.A) (no employment decline) has not been met.

TA-W-55,336; Sunrise Medical, Fresno, CA.

TA-W-55,233; Meadwestvaco Corp., including leased workers of D&H Associates, Inc., and Proserv, Inc., Escanaba Mill, Escanaba, MI.

TA-W-55,267; Alltrista Consumer Products Co., Cloquet Div., Cloquest, MN.

TA-W-55,207; American Greetings Corp., Envelope Department, Lafayette, TN.

The investigation revealed that criterion (a)(2)(A)(I.B) (Sales or production, or both, did not decline) and (a) (2)(B)(II.B) (has shifted production to a country not under the free trade agreement with U.S.) have not been met.

TA-W-55,353; Big Joe Manufacturing Co., Wisconsin Dells, WI.

The investigation revealed that criteria (2) has not been met. The workers firm (or subdivision) is not a supplier or downstream producer to trade-affected companies.

TA-W-55,255; Pinnacle Steel Processing, Inc., Jefferson City, TN.

The investigation revealed that criteria (a)(2)(A) (I.C) (increased imports) and (II.C) (has shifted production to a foreign country) have not been met.

TA-W-55,364; Andersen 2000, Inc., Peachtree City, GA.

TA-W-55,235; Wyeth Pharmaceuticals, including leased workers of Kelly Scientific Resources and Kelly Services, Marietta, PA.

Affirmative Determinations for Worker Adjustment Assistance

The following certifications have been issued; the date following the company name and location of each determination references the impact date for all workers of such determination.

The following certifications have been issued. The requirements of (a) (2) (A) (increased imports) of Section 222 have been met.

TA-W-55,219; Good Will Sewing Co., San Francisco, CA: June 25, 2003.

TA-W-55,180; Rainbow Swimwear, Inc., Brooklyn, NY: May 26, 2003.

TA-W-55,341; Express Personnel Services, employed at SR Telecom, Redmond, WA: July 26, 2003.

TA-W-55,183; Advantage Technologies, Inc., Plymouth, MI: June 23, 2003.

TA-W-55,379; Invisible Technologies, Inc., including leased workers of Pro Resources, Kelly Services and People Link, Garrett, IN: August 2, 2003.

TA-W-55,326; Sumitomo Electric Wiring Systems, Inc., Scottsville Plant #2, Scottsville, KY: July 27, 2003.

TA-W-55,306; Elastic Corporation of America, Inc., Columbiana, AL: July 20, 2003.

TA-W-55,293; Sunrise Medical HHG, Avon Lake Div., including on-site leased workers from Spherion, Avon Lake, OH: July 21, 2003.

TA-W-55,407; Delta Energy Systems, Inc., including leased workers of Randstad North America, Palm Coast, FL: July 14, 2003.

TA-W-55,387; Hartwell Industries, Inc., Hartwell, GA: July 31, 2003.

TA-W-55,376; Teva Pharmaceuticals USA, Mexico, MO: August 3, 2003.

TA-W-55,158; Globalware Solutions, including leased workers of International Temps, Inc., Haverhill, MA: June 9, 2003.

TA-W-55,193; Kitco, Division of Specialty Elastomers Technologies, Inc., Bluffton, IN: June 30, 2003.

TA-W-55,156; Georgia-Pacific Corp., Consumer Products Div., Green Bay Broadway Facility, including on-site leased workers from Encadria Staffing Solutions, Green Bay, WI: June 7, 2003.

TA-W-55,243; 5 B's, Inc., Barnesville, OH: June 15, 2003.

TA-W-55,388; Pelstar LLC, Bridgeview, IL: August 4, 2003.

TA-W-55,269; Meridian Automotive Systems, Inc., including on-site Leased workers from Accuforce Staffing, Lenoir, NC: July 16, 2003.

The following certifications have been issued. The requirements of (a) (2) (B) (shift in production) of Section 222 have been met.

TA-W-55,253; Christiana Industries, Vernon Hills, IL: May 18, 2003.

TA-W-55,346; Hamilton Beach/Proctor Silex, Inc., Southern Pines, NC: July 19, 2003.

TA-W-55,354; Knight Textile Corp., Saluda, SC: July 16, 2004.

TA-W-55,359; Brown & Willamson Tobacco Corp., Wilson Leaf Div., Wilson, NC: July 30, 2003.

TA-W-55,355; Advance Transformer, a div. of Philips Lighting, Boscobel, WI: August 13, 2004.

TA-W-55,431; American Manufacturing International, Inc., Oxford, NJ: August 11, 2003.

TA-W-55,383; Rockwell Automation, Eau Claire, WI: July 20, 2003.

TA-W-55,279; Telect, Inc., including leased workers of Volt Services Group, Liberty Lake, WA: August 20, 2004.

TA-W-55,055; Invista, S.A.R. L., formerly doing business as Invista Dupont, Nylon Div., a subsidiary of Koch Industries, including on-site leased workers from Chattanooga General Services, Inc., and Stratus, Inc., 4501 North Access Rd, Chattanooga, TN: June 7, 2003.

TA-W-55,307; Dorsey Trailers, Flatbed div., Elba, AL: July 20, 2003.

TA-W-55,262; JDS Uniphase Corp., including leased workers of Manpower and Ciber, Rochester, MN: June 25, 2003.

TA-W-55,221; EGS Electrical Group, Sola/Hevi-Duty div., Rainsville, AL: July 8, 2003.

TA-W-55,385; Morse Automotive Corp., Arkadelphia, AR: August 5, 2003.

TA-W-55,322; Coats American, Inc., Marble, NC: July 27, 2003.

TA-W-55,240; Rubbermaid, Inc., Rubbermaid Home Products Division, Jackson, MO: July 9, 2003.

TA-W-55,338; C&D Technologies, Inc., Motive Power Division, Huguenot, NY: July 20, 2003.

TA-W-55,325; GLP Acquisitions, LLC, Great Lakes Plastics Div., a wholly owned subsidiary of Glastic Corp., Salem, MI: July 12, 2003.

TA-W-55,324; Mandell Industries, Inc., Oceanside, NY: July 26, 2003.

Negative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

The Department has determined that criterion (1) of Section 246 has not been met. Workers at the firm are 50 years of age or older.

TA-W-55,341; Express Personnel Services, Employed at SR Telecom, Redmond, WA.

TA-W-55,354; Knight Textile Corp., Saluda, SC.

The Department has determined that criterion (2) of section 246 has not been met. Workers at the firm possess skills that are easily transferable.

TA-W-55,183; Advantage Technologies, Inc., Plymouth, MI.

Since the workers are denied eligibility to apply for TAA, the workers cannot be certified eligible for ATAA.

TA-W-55,323; Promark International, d/b/a Smith-Victor Corp., Griffith, IN.

TA-W-55,351; D.T. Swiss, Inc., Grand Junction, CO.

TA-W-55,252; Fiberglass Products, Inc., d/b/a FPI Systems, North Haven, CT.

TA-W-55,261; Sony Electronics, Inc., AOEM Service Center, Farmington Hills, MI.

TA-W-554,281; Dan River Factory Stores (#16), Commerce, GA.

TA-W-55,295; Teletech Customer Care Management (Colorado), Inc., a division of Teletech Holdings, Inc., North Hollywood, Los Angeles, CA.

TA-W-55,207; American Greetings Corp., Envelope Department, Lafayette, TN.

TA-W-55,255; Pinnacle Steel Processing, Inc., Jefferson City, TN.

TA-W-55,353; Big Joe Manufacturing Co., Wisconsin Dells, WI.

TA-W-55,364; Andersen 2000, Inc., Peachtree City, GA.

TA-W-55,235; Wyeth Pharmaceuticals, including leased workers of Kelly Scientific Resources and Kelly Services, Marietta, PA.

Affirmative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-55,243; 5 B's, Inc., Barnesville, OH: June 15, 2003.

TA-W-55,269; Meridian Automotive Systems, Inc., including on-site leased worker from Accuforce Staffing, Lenoir, NC: July 16, 2003. Wash N Wear, Gallatin, TN: June 30, 2003.

TA-W-55,324; Mandell Industries, Inc., Oceanside, NY: July 26, 2003.

TA-W-55,325; GLP Acquisitions, LLC, Great Lakes Plastics Div., a wholly owned subsidiary of Glastic Corporation, Salem, MI: July 12, 2003.

TA-W-55,388; Pelstar LLC, Bridgeview, IL: August 4, 2003.

TA-W-55,335; Falcon Products, Inc., Belmont, MS: July 21, 2003.

TA-W-55,156; Georgia-Pacific Corporation, Consumer Products Div., Green Bay Broadway Facility, including on-site leased workers from Encadria Staffing Solutions, Green Bay, WI June 7, 2003.

TA-W-55,338; C&D Technologies, Inc., Motive Power Division, Huguenot, NY: July 20, 2003.

TA-W-55,240; Rubbermaid, Inc., Rubbermaid Home Products Division, Jackson, MO: July 9, 2003.

TA-W-55,332; Coats American, Inc., Marble, NC: July 27, 2003.

TA-W-55,193; Kitco, division of Specialty Elastomers Technologies, Inc., Bluffton, IN: June 30, 2003.

TA-W-55,158; Globalware Solutions, including leased workers of International Temps, Inc., Haverhill, MA: June 9, 2003.

TA-W-55,376; Teva Pharmaceuticals USA, Mexico, MO: August 3, 2003.

TA-W-55,385; Morse Automotive Corp., Arkadelphia, AR: August 5, 2003.

TA-W-55,387; Hartwell Industries, Inc., Hartwell, GA: July 31, 2003.

TA-W-55,407; Delta Energy Systems, Inc., including leased workers of Randstad North America, Palm Coast, FL: July 14, 2003.

TA-W-55,221; EGS Electrical Group, Sola/Hevi-Duty Division, Rainsville, AL: July 8, 2003.

TA-W-55,262; JDS Uniphase Corp., including leased workers of Manpower and Ciber, Rochester, MN: June 25, 2003.

TA-W-55,307; Dorsey Trailers, Flatbed Div., Elba, AL: July 20, 2003.

TA-W-55,293; Sunrise Medical HHG, Avon Lake Division, including on-site leased workers from Spherion, Avon Lake, OH: July 21, 2003.

TA-W-55,306; Elastic Corporation of America, Inc., Columbiana, AL: July 20, 2003.

TA-W-55,326; Sumitomo Electric Wiring Systems, Inc., Scottsville Plant #2, Scottsville, KY: July 27, 2003.

TA-W-55,383; Rockwell Automation, Eau Claire, WI: July 20, 2003.

TA-W-55,431; American Manufacturing International, Inc., Oxford, NJ: August 11, 2003.

TA-W-55,055; Invista, S.A.R.L., formerly Doing Business as Invista Dupont, Nylon Division, a subsidiary of Koch Industries, including on-site leased workers from Chattanooga General Services, Inc., and Stratus, Inc., 4501 North Access Road, Chattanooga, TN: June 7, 2003.

TA-W-55,355; Advance Transformer, a division of Philips Lighting, Boscobel, WI: August 13, 2004.

TA-W-55,359; Brown & Williamson Tobacco Corporation, Wilson Leaf Division, Wilson, NC: July 30, 2003.

TA-W-55,379; Invisible Technologies, Inc., including leased workers of Pro Resources, Kelly Services and People Link, Garrett, In: August 2, 2003.

I hereby certify that the aforementioned determinations were issued during the months of August 2004. Copies of these determinations are available for inspection in Room C-5311, U.S. Department of Labor, 200 Constitution Avenue, NW., Washington, DC 20210 during normal business hours or will be mailed to persons who write to the above address.

Dated: August 27, 2004.
Timothy Sullivan,
Director, Division of Trade Adjustment Assistance.

[FR Doc. E4-2098 Filed 9-7-04; 8:45 am]

BILLING CODE 4510-30-P